DEPARTMENT OF ENERGY

Federal Energy Regulatory Commission

[Docket No. CP06-126-000]

Texas Gas Transmission, LLC; Notice of Intent To Prepare an Environmental Assessment for the Proposed Texas Gas Storage Expansion Project—Phase 2 and Request for Comments on Environmental Issues

May 25, 2006.

The staff of the Federal Energy Regulatory Commission (FERC or Commission) will prepare an environmental assessment (EA) that will discuss the environmental impacts of the Texas Gas Storage Expansion Project—Phase 2 involving construction and operation of facilities by Texas Gas Transmission, LLC (Texas Gas) in Webster, Hopkins, and Muhlenberg Counties, Kentucky.¹ Texas Gas' project purpose is to enable it to withdraw on a firm basis up to an additional 100,749 MMBtu per day from the Midland and Hanson Gas Storage Fields. Also the project would enable Texas Gas to utilize an additional 9,320,500 MMBtu in the Midland Gas Storage Field to accommodate demand on Texas Gas' system. In general these facilities would consist of 7 new horizontal injection/withdrawal wells, abandoning 2 horizontal injection/withdrawal wells, several segments of pipeline connecting the wells to lateral pipelines and replacing several segments of pipeline, addition of compression at 2 compressor stations, and increasing the certificated field capacity at one of the storage fields. This EA will be used by the Commission in its decision-making process to determine whether the project is in the public convenience and necessity.

¹ Texas Gas' application was filed with the Commission under section 7 of the Natural Gas Act and part 157 of the Commission's regulations.

Summary of the Proposed Project

Texas Gas proposes to add three compressor units at two existing compressor stations (CS), add seven new horizontal injection/withdrawal wells and related field piping modifications at two existing gas storage fields, and abandon two existing injection/withdrawal wells all in Kentucky. Also Texas Gas proposes an increase in certificated field capacity at one gas storage field. Specifically, the project includes:

• Slaughters CS (Webster County, KY)—A new 13,338 horsepower (hp) turbine compressor unit and associated equipment, and a new power generator to be installed at an existing compressor station site;

• Hanson CS (Hopkins County, KY)—Two new 1,774 hp reciprocating compressor units and associated equipment replacing two existing reciprocating units, a new power generator, a dehydration plant, and a new boiler to be installed at an existing compressor station site;

• Hanson Gas Storage Field (Hopkins County, KY)—Two new horizontal injection/withdrawal wells (Well Nos. 17567 and 17568); and

• Midland Gas Storage Field (Muhlenberg County, KY)—Five new horizontal injection/withdrawal wells (Well Nos. 17562, 17563, 17564, 17565, and 17566), plugging existing Well Nos. 16774 and 16812, new pig trap receiver/launcher facilities, and increased certificated field capacity by 2,000,000 MMBtu by increasing the maximum allowable field pressure.

Also, Texas Gas indicates it would construct and operate, under a Blanket Certificate from Docket No. CP82-407-000, the following facilities at the Hanson and Midland Gas Storage Fields:

• Hanson Gas Storage Field—900 feet (ft) of new 8-inch (in) diameter pipeline from Well No. 17567 to the 12-in East Header pipeline, and 800 ft of new 8-in diameter pipeline from Well No. 17568 to the 8-in West Header pipeline.

• Midland Gas Storage Field—1,200 ft of new 8-in diameter pipeline from Well No. 17562 to the E-11 lateral pipeline, 800 ft of new 8-in diameter pipeline from Well No. 17563 to the E-7 lateral pipeline, 1,000 ft of new 8-in diameter pipeline from Well No. 17564 to the E-4 lateral pipeline, 200 ft of new 8-in diameter pipeline from Well No. 17565 to the E-1 lateral pipeline, 500 ft of new 8-in diameter pipeline from well No 17566 to the W-4 lateral pipeline, 1,600 ft of 6-in diameter pipeline to replace the existing 4-in pipeline tributary to existing Well No 16947, 1,500 ft of 6-in pipeline to replace the existing 4-in and 6-in tributary pipeline segments extending from the E-11 lateral pipeline to the E-7 lateral pipeline.

The general location of the project facilities is shown in Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Additional Information section of this notice. Copies of the appendices were sent to all those receiving this notice in the mail.

Land Requirements for Construction

Construction of the proposed facilities would require about 113.39 acres of land. All work at the Slaughters and Hanson compressor Stations would occur within the existing station yards. Of the 20.0 acres needed for construction at the Hanson Storage Field, 1.34 acres would be maintained as new permanent easements and access road. Of the 39.45 acres needed for construction at the Midland Storage Field, 31.9 acres would occur within existing permanent easements and 2.75 acres would become maintained as new permanent easements and access roads.

The EA Process

NEPA requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Geology and soils.

• Land use.

• Water resources, fisheries, and wetlands.

• Cultural resources.

• Vegetation and wildlife.

• Air quality and noise.

• Endangered and threatened species.

• Hazardous waste.

• Public safety.

We will also evaluate possible alternatives to the proposed project or portions of the project, and make recommendations on how to lessen or avoid impacts on the various resource areas.

Our independent analysis of the issues will be in the EA. Depending on the comments received during the scoping process, the EA may be published and mailed to Federal, State, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified air and noise impacts as issues that we think deserve attention based on a preliminary review of the proposed facilities and the environmental information provided by Texas Gas. This preliminary list of issues may be changed based on your comments and our analysis.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP06-126-000.

• Mail your comments so that they will be received in Washington, DC on or before June 23, 2006.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (Appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-8523 Filed 6-1-06; 8:45 am]

BILLING CODE 6717-01-P